DEPARTMENT OF DEFENSE

Department of the Army

[Docket ID USA-2009-0001]

Privacy Act of 1974; System of Records

AGENCY: Department of the Army, DoD.

ACTION: Notice To Alter a System of Records.

SUMMARY: The Department of the Army is proposing to alter a system of records in its existing inventory of records systems subject to the Privacy Act of 1974, (5 U.S.C. 552a), as amended.

DATES: The proposed action will be effective on March 12, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Robert Dickerson, (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on January 30, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 4, 2009.
Morgan E. Frazier,
Alternate OSD Federal Register Liaison Officer, Department of Defense.

A0381-20b DAMI

System Name:

Counterintelligence/Information Operations/Security Files (December 14, 2001, 66 FR 64811).

Changes:

* * * * *

System Name:

Delete entry and replace with “Foreign Intelligence/ Counterintelligence/Information Operations/Security Files.”

Categories of Individuals Covered by the System:

Delete entry and replace with “Military personnel of the U.S. Army, including active duty, National Guard, reservists and retirees; civilian employees of the Department of the Army (DA), including contract, temporary, part-time, and advisory, citizen and alien employees located both in the U.S. and in overseas areas; individuals identified in foreign intelligence or counterintelligence reports and supportive material, including individuals involved in matters of foreign intelligence interest; industrial or contractor personnel working in private industry which have contracts involving classified Department of Defense (DoD) information; aliens granted limited access authorization to U.S. Defense information; alien personnel investigated for visa purposes; certain non-DoD affiliated persons whose activities involve them with the DoD, namely, activities involving requests for admission to DoD facilities or requests for certain information regarding DoD personnel, activities, or facilities; persons formerly affiliated with the DoD; persons who applied for or are/were being considered for employment with or access to DoD such as applicants for military service, pre inductees and prospective contractors; individuals residing on, having authorized official access to, or conducting or operating any business or other function at any DoD installation and facility; and U.S. Army Intelligence sources; and U.S. persons who have been declared missing, prisoners of war (POW), civilian persons who are being detained or held hostage or personnel recovered from hostile control; persons of interest encountered as part of military operations; individuals to include those brought to the attention of DoD by federal, state, local, tribal, foreign, or international organizations/agencies about whom there is a reasonable basis to believe that they are engaged in, or plan to engage in, activities such as (1) sabotage, (2) possible compromise of classified defense information by unauthorized disclosure or by espionage, treason or spying; (3) terrorism; (4) narcotics trafficking; (5) activities that are a direct threat to national or international security, or the conduct of military operations, (6) subversion of loyalty, discipline or morale of DoD military or civilian personnel by actively encouraging violation of lawful orders and regulations or disruption of military activities, and (7) activities that are a direct threat to DoD personnel, facilities and material or classified Defense contractor facilities or those individuals suspected or involved in criminal and intelligence activities directed against or involving DoD Information Systems.”

Categories of Records in the System:

Delete entry and replace with This system includes intelligence records established to support intelligence, counter-intelligence and counter terrorism analysis and detection, to include biometrics enabled (or capable) records.

Biometrics enabled intelligence related records/reports/data/analytical products in paper and/or automated form. These related support items may include names, Social Security numbers, biometrics templates, biometrics information, biometrics signatures and images, biographical information, and contextual data that is associated with such biometrics. Biometrics signatures, images and templates include modalities such as fingerprints, iris scans, DNA, voice, facial features, writing exemplar, and hand geometry. Biographical information includes information such as date of birth, place of birth, height, weight, eye color, hair color, race, gender, nationality, and other personal descriptive data.

General and technical analytical reports/data.

Requests for and results of investigations or inquiries or analysis conducted and data acquired and maintained by U.S. Army Intelligence or other DoD, Federal, State, local, tribal or foreign intelligence, security or investigative agencies. Record includes: Personal history statements; fingerprint cards; personnel security questionnaire; medical and/or educational records and waivers for release; local agency checks; military records; birth records; employment records; education records; credit records and waivers for release; interviews of education, employment, and credit references; interviews of listed and developed character references; interviews of neighbors; requests for, documentation pertaining to, results of electronic surveillance, intelligence polygraph examinations and technical documents, physical surveillance, and mail cover and or search; polygraph examination summaries; documents which succinctly summarize information in subject's investigative file; case summaries prepared by both investigative control offices and requesters of investigative interrogation reports; temporary documents concerning security, suitability, and criminal incidents lawfully collected by U.S. Army counterintelligence units in the performance of the counterintelligence mission; intelligence requirements, analysis, and reporting; operational records; articles, open source data, and other published information on individuals and events of interest to INSCOM; actual or purported correspondence; correspondence pertaining to the investigation, inquiry, or its adjudication by clearance or investigative authority to include; (1) The chronology of the investigation, inquiry, and adjudication; (2) all recommendations regarding the future status of the subject; (3) actions of security/loyalty review boards; (4) final actions/determinations made regarding the subject; and (5) security clearance, limited access authorization, or security determination; index tracing reference which contains aliases and the names of the subject and names of co-subjects; security termination and inadvertent disclosure statements; notification of denial, suspension, or revocation of clearance; and reports of casualty, biographic data and intelligence/counterintelligence debriefing reports concerning U.S. personnel who are missing, captured, or detained by a hostile entity. Case control and management documents that serve as the basis for conducting the investigation such as documents requesting the investigation and documents used in case management and control such as lead sheets, other field tasking documents, and transfer forms. Administrative records required by the U.S. Army Investigative Records Repository for records management purposes such as form transmitting investigative or operational material to the U.S. Army Investigative Records Repository and providing instructions for indexing the record in the Defense Central Index of Investigations and release of material contained therein, form indicating dossier has been reviewed and all material therein conforms to DoD policy regarding retention criteria, form pertaining to the release of information pertaining to controlled records, form to indicate material has been removed and forwarded to other authorized Federal agencies such as the Defense Investigative Service, cross reference sheet to indicate the removal of investigative documents requiring limited access, form identifying material that has been segregated and/or is exempt from release, and records accounting for the disclosure of intelligence, counterintelligence and security information made outside of the DoD.

Paper and automated indices of personnel investigations/operations which are under controlled access within the U.S. Army Investigative Records Repository, such as key USAINSCOM personnel, general officers, file procurement officers and their agencies, and sensitive spying, treason, espionage, sabotage, sedition, and subversion investigations and foreign intelligence or counterintelligence operations.

Microform and automated indices and catalogue files, which constitute an index to all U.S. Army Investigative Records Repository holdings contained in microfilmed investigative and operational records.

Automated record indices maintained by the U.S. Army Investigative Records Repository to keep a record of all original dossiers charged out of the U.S. Army Investigative Records Repository on loan to user agencies or permanently transferred to National Archives and Records Administration.

Paper, card file, microform and computerized case and incident indices containing name, date/place of birth, address, case or incident title and number, and brief summary of case or incident of current interest to investigative activities.”

Authority for Maintenance of the System:

Delete entry and replace with “10 U.S.C. 3013, Secretary of the Army; E.O. 10450, Security Requirements for Government Employees; E.O. 12333, United States Intelligence Activities; the National Security Act of 1947, as amended; the Defense Authorization Act for FY 1988 and 1989; the Foreign Intelligence Surveillance Act of 1978 (50 U.S.C. 401); 18 U.S.C. 2511, Interception and Disclosure of Electronic Communications Prohibited; DoD 5240.1-R, DoD Intelligence Activities; Army Regulation 381-10, U.S. Army Intelligence Activities and E.O. 9397 (SSN).”

Purpose(s):

Delete entry and replace with “To provide information to assess an individual's acceptability for assignment to or retention in sensitive positions consistent with the interest of national security; to document U.S. intelligence, counterintelligence and security investigations and operations pertaining to the U.S. Army's responsibilities for foreign intelligence and counterintelligence, and to detect, identify, and neutralize foreign intelligence and international terrorist threats to the DoD; and to temporarily document security, suitability, and criminal incident information not within U.S. Army counterintelligence jurisdiction to investigate, which is lawfully provided to U.S. Army counterintelligence units by cooperating sources of information collected incidental to the counterintelligence mission.

To maintain records on information operations, foreign intelligence, counterintelligence, counter-terrorism, counter-narcotics, and matters relating to the protection of the national security, DoD personnel, facilities and equipment, including but not limited to, information systems. This information is shared with other DoD components for the purpose of collaborating on production of intelligence products and countering terrorist acts.”

Routine Uses of Records Maintained in the System, Including Categories of Users and the Purposes of Such Uses:

Add New Routine Use:

“To Federal, State, tribal, local, foreign agencies, or international organizations/agencies for the purposes of national and international security, law enforcement, counterterrorism, intelligence, counterintelligence, immigration management and control, and homeland defense and security as authorized by U.S. Law or Executive Order, or for the purposes of protecting the territory, people, and interests of the United States of America against hostile activities.”

* * * * *

Retrievability:

Delete entry and replace with “By name; alias; title, in combination with Social Security Number or regular dossier number; date and/or place of birth; biometric template, other biometric data; or other personal identifier. For subjects identified only by name, the name only index is searched.”

* * * * *

Retention and Disposal:

Add paragraph “General and technical intelligence records are kept until no longer needed then destroyed.”

* * * * *

Exemptions Claimed for the System:

Delete entry and replace with “Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

To the extent that copies of exempt records from external systems of records are entered into AO381-10b DAMI, the Army hereby claims the same exemptions for those records as claimed for the original primary system of which they are a part.

An exemption rule for this system has been promulgated in accordance with requirements of 5 U.S.C. 553(b)(1), (2), and (3), (c), and (e) and published in 32 CFR part 505. For additional information contact the system manager.

* * * * *

A0381-20b DAMI

System Name:

Foreign Intelligence/Counterintelligence/Information Operations/Security Files.

System Location:

U.S. Army Intelligence and Security Command, 8825 Beulah Street, Fort Belvoir, VA 22060-5246.

Decentralized segments are located at U.S. Army Intelligence brigades, groups, battalions, companies, detachments, field offices and resident offices worldwide. Official mailing addresses are published as an appendix to the Army's compilation of systems of records notices.

Categories of Individuals Covered by the System:

Military personnel of the U.S. Army, including active duty, National Guard, reservists and retirees; civilian employees of the Department of the Army (DA), including contract, temporary, part-time, and advisory, citizen and alien employees located both in the U.S. and in overseas areas; individuals identified in foreign intelligence or counterintelligence reports and supportive material, including individuals involved in matters of foreign intelligence interest; industrial or contractor personnel working in private industry which have contracts involving classified Department of Defense (DoD) information; aliens granted limited access authorization to U.S. Defense information; alien personnel investigated for visa purposes; certain non-DoD affiliated persons whose activities involve them with the DoD, namely, activities involving requests for admission to DoD facilities or requests for certain information regarding DoD personnel, activities, or facilities; persons formerly affiliated with the DoD; persons who applied for or are/were being considered for employment with or access to DoD such as applicants for military service, pre inductees and prospective contractors; individuals residing on, having authorized official access to, or conducting or operating any business or other function at any DoD installation and facility; and U.S. Army Intelligence sources; and U.S. persons who have been declared missing, prisoners of war (POW), civilian persons who are being detained or held hostage or personnel recovered from hostile control; persons of interest encountered as part of military operations; individuals to include those brought to the attention of DoD by federal, state, local, tribal, foreign, or international organizations/agencies about whom there is a reasonable basis to believe that they are engaged in, or plan to engage in, activities such as (1) sabotage, (2) possible compromise of classified defense information by unauthorized disclosure or by espionage, treason or spying; (3) terrorism; (4) narcotics trafficking; (5) activities that are a direct threat to national or international security, or the conduct of military operations, (6) subversion of loyalty, discipline or morale of DoD military or civilian personnel by actively encouraging violation of lawful orders and regulations or disruption of military activities, and (7) activities that are a direct threat to DoD personnel, facilities and material or classified Defense contractor facilities or those individuals suspected or involved in criminal and intelligence activities directed against or involving DOD Information Systems.

Categories of Records in the System:

This system includes intelligence records established to support intelligence, counter-intelligence and counter terrorism analysis and detection, to include biometrics enabled (or capable) records.

Biometrics enabled intelligence related records/reports/data/analytical products in paper and/or automated form. These related support items may include names, Social Security numbers, biometrics templates, biometrics information, biometrics signatures and images, biographical information, and contextual data that is associated with such biometrics. Biometrics signatures, images and templates include modalities such as fingerprints, iris scans, DNA, voice, facial features, writing exemplar, and hand geometry. Biographical information includes information such as date of birth, place of birth, height, weight, eye color, hair color, race, gender, nationality, and other personal descriptive data.

General and Technical Analytical Reports/data:

Requests for and results of investigations or inquiries or analysis conducted and data acquired and maintained by U.S. Army Intelligence or other DoD, Federal, State, local, tribal or foreign intelligence, security or investigative agencies. Record includes: Personal history statements; fingerprint cards; personnel security questionnaire; medical and/or educational records and waivers for release; local agency checks; military records; birth records; employment records; education records; credit records and waivers for release; interviews of education, employment, and credit references; interviews of listed and developed character references; interviews of neighbors; requests for, documentation pertaining to, results of electronic surveillance, intelligence polygraph examinations and technical documents, physical surveillance, and mail cover and/or search; polygraph examination summaries; documents which succinctly summarize information in subject's investigative file; case summaries prepared by both investigative control offices and requesters of investigative interrogation reports; temporary documents concerning security, suitability, and criminal incidents lawfully collected by U.S. Army counterintelligence units in the performance of the counterintelligence mission; intelligence requirements, analysis, and reporting; operational records; articles, open source data, and other published information on individuals and events of interest to INSCOM; actual or purported correspondence; correspondence pertaining to the investigation, inquiry, or its adjudication by clearance or investigative authority to include: (1) The chronology of the investigation, inquiry, and adjudication; (2) all recommendations regarding the future status of the subject; (3) actions of security/loyalty review boards (4) final actions/determinations made regarding the subject; and (5) security clearance, limited access authorization, or security determination; index tracing reference which contains aliases and the names of the subject and names of co-subjects; security termination and inadvertent disclosure statements; notification of denial, suspension, or revocation of clearance; and reports of casualty, biographic data and intelligence/counterintelligence debriefing reports concerning U.S. personnel who are missing, captured, or detained by a hostile entity. Case control and management documents that serve as the basis for conducting the investigation such as documents requesting the investigation and documents used in case management and control such as lead sheets, other field tasking documents, and transfer forms. Administrative records required by the U.S. Army Investigative Records Repository for records management purposes such as form transmitting investigative or operational material to the U.S. Army Investigative Records Repository and providing instructions for indexing the record in the Defense Central Index of Investigations and release of material contained therein, form indicating dossier has been reviewed and all material therein conforms to DoD policy regarding retention criteria, form pertaining to the release of information pertaining to controlled records, form to indicate material has been removed and forwarded to other authorized Federal agencies such as the Defense Investigative Service, cross reference sheet to indicate the removal of investigative documents requiring limited access, form identifying material that has been segregated and/or is exempt from release, and records accounting for the disclosure of intelligence, counterintelligence and security information made outside of the DoD.

Paper and automated indices of personnel investigations/operations which are under controlled access within the U.S. Army Investigative Records Repository, such as key USAINSCOM personnel, general officers, file procurement officers and their agencies, and sensitive spying, treason, espionage, sabotage, sedition, and subversion investigations and/or foreign intelligence or counterintelligence operations.

Microform and automated indices and catalogue files, which constitute an index to all U.S. Army Investigative Records Repository holdings contained in microfilmed investigative and operational records.

Automated record indices maintained by the U.S. Army Investigative Records Repository to keep a record of all original dossiers charged out of the U.S. Army Investigative Records Repository on loan to user agencies or permanently transferred to National Archives and Records Administration.

Paper, card file, microform and computerized case and incident indices containing name, date/place of birth, address, case or incident title and number, and brief summary of case or incident of current interest to investigative activities.

Authority for Maintenance of the System:

10 U.S.C. 3013, Secretary of the Army; E.O. 10450, Security Requirements for Government Employees; E.O. 12333, United States Intelligence Activities; the National Security Act of 1947, as amended; the Defense Authorization Act for FY 1988 and 1989; the Foreign Intelligence Surveillance Act of 1978 (50 U.S.C. 401); 18 U.S.C. 2511, Interception and Disclosure of Electronic Communications Prohibited; DoD 5240.1-R, DoD Intelligence Activities; Army Regulation 381-10, U.S. Army Intelligence Activities and E.O. 9397 (SSN).

Purpose(s):

To provide information to assess an individual's acceptability for assignment to or retention in sensitive positions consistent with the interest of national security; to document U.S. intelligence, counterintelligence and security investigations and operations pertaining to the U.S. Army's responsibilities for foreign intelligence and counterintelligence, and to detect, identify, and neutralize foreign intelligence and international terrorist threats to the DoD; and to temporarily document security, suitability, and criminal incident information not within U.S. Army counterintelligence jurisdiction to investigate, which is lawfully provided to U.S. Army counterintelligence units by cooperating sources of information collected incidental to the counterintelligence mission.

To maintain records on information operations, foreign intelligence, counterintelligence, counterterrorism, counter-narcotics, and matters relating to the protection of the national security, DoD personnel, facilities and equipment, including but not limited to, information systems. This information is shared with other DoD components for the purpose of collaborating on production of intelligence products and countering terrorist acts.

Routine Uses of Records Maintained in the System, Including Categories of Users and the Purposes of Such Uses:

In addition to those disclosures generally permitted under 5 U.S.C. 552a(b) of the Privacy Act, these records or information contained therein may specifically be disclosed outside the DoD as routine uses pursuant to 5 U.S.C. 552a(b)(3) as follows:

To Federal, State, tribal, local, foreign agencies, or international organizations/agencies for the purposes of national and international security, law enforcement, counterterrorism, intelligence, counterintelligence, immigration management and control, and homeland defense and security as authorized by U.S. Law or Executive Order, or for the purposes of protecting the territory, people, and interests of the United States of America against hostile activities.

To the Immigration and Naturalization Service, Department of Justice for use in alien admission and naturalization inquiries conducted under section 105 of the Immigration and Naturalization Act of 1952, as amended.

To the Department of Veterans Affairs for the purpose of using the information in benefit determinations.

To the Department of State, the Department of Treasury, the Department of Justice, the Federal Bureau of Investigation, the Drug Enforcement Administration, U.S. Customs Service, the Bureau of Alcohol, Tobacco and Firearms, and the Central Intelligence Agency for the purpose of collaborating on production of intelligence product and countering terrorist acts. The distribution of investigative information is based on the Army's evaluation of the requesting agency's needs and the relevance of the information to the use for which it is provided. Information collected for one purpose is not automatically used for other purposes or by the other users indicated in this description.

The DoD `Blanket Routine Uses' published at the beginning of the Army's compilation of systems of records notices also apply to this system.

Policies and Practices for Storing, Retrieving, Accessing, Retaining, and Disposing of Records in the System:

Storage:

Paper records in file folders and on electronic storage media.

Retrievability:

By name; alias; title, in combination with Social Security Number or regular dossier number; date and/or place of birth; biometric template, other biometric data; or other personal identifier. For subjects identified only by name, the name only index is searched.

Safeguards:

Buildings employ alarms, security guards, and/or rooms are security-controlled areas accessible only to authorized persons. Paper and microform records are maintained in General Service Administration approved security containers. Paper and microform records in the U.S. Army Investigative Records Repository are stored in security-controlled areas accessible only to authorized persons. Electronically and optically stored records are maintained in `fail-safe' system software with password-protected access. Records are accessible only to authorized persons with a need-to-know who are properly screened, cleared, and trained.

Retention and Disposal:

General and technical intelligence records are kept until no longer needed then destroyed.

Personnel security/adjudicative records on non-DoD persons who are considered for affiliation with DoD are destroyed after 1 year if affiliation is not completed.

Personnel security investigations and adjudicative records of a routine nature are retained in the active file until no longer needed; retired to the U.S. Army Investigative Records Repository and retained for 15 years after last action reflected in the file, except that files which contain significant derogatory information and or resulted in adverse action(s) against the individual are destroyed after 25 years. However, once affiliation is terminated, acquiring and adding material to the file is prohibited unless affiliation is renewed. Records determined to be of historical value, of wide spread value, or Congressional interest and investigations of treason, spying, espionage, sabotage, sedition, and subversion or other major investigations or operations of a counterintelligence or security nature are permanent. They will be retained in the U.S. Army Investigative Records Repository for 25 years after the date of the last action reflected in the file and then permanently transferred to the National Archives.

Records pertaining to U.S. persons declared POW, missing, or detainees will be maintained in the active file until no longer needed, retired to the U.S. Army Investigative Records Repository and retained for 50 years after the date of the last action reflected in the file or the subject is declared Killed in Action or dead and then permanently transferred to the National Archives.

Records pertaining to counterintelligence polygraph technical files will be maintained in the active file until no longer needed and then disposed of after the final quality control review as follows: (1) For counterintelligence scope cases, 90 days for favorably resolved cases or 15 years for other than favorably resolved cases, (2) for counterintelligence investigative cases, 15 years, and (3) for offensive counterintelligence operations and Human Intelligence cases, material is transferred to the U.S. Army Investigative Records Repository, incorporated into an operational dossier, and disposed of 25 years from the date of last action.

Security, suitability, and criminal incident information that is collected in the performance of the counterintelligence mission and which is not within the U.S. Army counterintelligence jurisdiction to investigate is retained at the location only so long as necessary to transmit it to the appropriate law enforcement or investigative agency having jurisdiction for this incident.

Summarized records pertaining to local intelligence, counterintelligence or incidents of interest to the local military intelligence activity are reviewed annually and destroyed when determined to be of no further operational value.

Destruction of records will be by shredding, burning, or pulping for paper records; magnetic erasing for computerized records. Optical digital data records should not be destroyed pending the development of a satisfactory destruction method.

System Manager(s) and Address:

Deputy Chief of Staff for Intelligence, Headquarters, Department of the Army, 1001 Army Pentagon, Washington, DC 20310-1001.

Notification Procedure:

Individuals seeking to determine whether information about themselves is contained in this system should address written inquiries to the U.S. Army Intelligence and Security Command, Freedom of Information/Privacy Office, 8825 Beulah Street, Fort Belvoir, VA 22060-5246.

Individuals should provide their full name, aliases, date and place of birth, Social Security Number, service number(s), or other information verifiable from the records in written request.

Record Access Procedures:

Individuals seeking to determine whether information about themselves is contained in this system should address written inquiries to the U.S. Army Intelligence and Security Command, Freedom of Information/Privacy Office, 8825 Beulah Street, Fort Belvoir, VA 22060-5246.

Individuals should provide their full name, aliases, date and place of birth, Social Security Number, service number(s), current address, and telephone number in written request.

Contesting Record Procedures:

The Army's rules for accessing records, and for contesting contents and appealing initial agency determinations are contained in Army Regulation 340-21; 32 CFR part 505; or may be obtained from the system manager.

Record Source Categories:

From individuals; DoD records; U.S. agencies and organizations; media, including periodicals, newspapers, broadcast transcripts; intelligence source documents/reports; other relevant Army documents and reports; informants; various Federal, state and local investigative and law enforcement agencies; foreign governments; and other individuals or agencies/organizations that may supply pertinent information.

Exemptions Claimed for the System:

Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

To the extent that copies of exempt records from external systems of records are entered into A0381-10b DAMI, the Army hereby claims the same exemptions for those records as claimed for the original primary system of which they are a part.

An exemption rule for this system has been promulgated in accordance with requirements of 5 U.S.C. 553(b)(1), (2), and (3), (c), and (e) and published in 32 CFR part 505. For additional information contact the system manager.

[FR Doc. E9-2791 Filed 2-9-09; 8:45 am]

BILLING CODE 5001-06-P